DEPARTMENT OF THE INTERIOR

National Park Service

[NPS-WASO-NAGPRA-NPS0032266; PPWOCRADN0-PCU00RP14.R50000]

Notice of Inventory Completion: Fremont Indian State Park and Museum, Sevier, UT

AGENCY: National Park Service, Interior.

ACTION: Notice.

SUMMARY: The Fremont Indian State Park and Museum has completed an inventory of human remains, in consultation with the appropriate Indian Tribes or Native Hawaiian organizations, and has determined that there is no cultural affiliation between the human remains and any present-day Indian Tribes or Native Hawaiian organizations. Representatives of any Indian Tribe or Native Hawaiian organization not identified in this notice that wish to request transfer of control of these human remains should submit a written request to the Fremont Indian State Park and Museum. If no additional requestors come forward, transfer of control of the human remains to the Indian Tribes or Native Hawaiian organizations stated in this notice may proceed.

DATES: Representatives of any Indian Tribe or Native Hawaiian organization not identified in this notice that wish to request transfer of control of these human remains should submit a written request with information in support of the request to the Fremont Indian State Park Museum at the address in this notice by August 18, 2021.

FOR FURTHER INFORMATION CONTACT: Kevin Taylor, Manager, Fremont Indian State Park and Museum, 3820 W Clear Creek Canyon Road, Sevier, UT 84766-6058, telephone (435) 527-4631, email kevintaylor@utah.gov.

SUPPLEMENTARY INFORMATION: Notice is here given in accordance with the Native American Graves Protection and Repatriation Act (NAGPRA), 25 U.S.C. 3003, of the completion of an inventory of human remains under the control of the Fremont Indian State Park Museum, Sevier, UT. The human remains were removed from the Five Finger Ridge Site (42SV1686) and the Icicle Bench Site (42SV1372), Sevier County, UT.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made by the Fremont Indian State Park Museum professional staff in consultation with representatives of the Confederated Tribes of the Goshute Reservation, Nevada and Utah; Hopi Tribe of Arizona; Kaibab Band of Paiute Indians of the Kaibab Indian Reservation, Arizona; Northwestern Band of the Shoshone Nation (previously listed as Northwestern Band of Shoshoni Nation and the Northwestern Band of Shoshoni Nation of Utah (Washakie)); Paiute Indian Tribe of Utah (Cedar Band of Paiutes, Kanosh Band of Paiutes, Indian Peaks Band of Paiutes, and Shivwits Band of Paiutes (previously listed as Paiute Indian Tribe of Utah (Cedar City Band of Paiutes, Kanosh Band of Paiutes, Koosharem Band of Paiutes, Indian Peaks Band of Paiutes, and Shivwits Band of Paiutes)); Pueblo of Jemez, New Mexico; San Juan Southern Paiute Tribe of Arizona; Shoshone-Bannock Tribes of the Fort Hall Reservation; Shoshone-Paiute Tribes of the Duck Valley Reservation, Nevada; Skull Valley Band of Goshute Indians of Utah; Southern Ute Indian Tribe of the Southern Ute Reservation, Colorado; Ute Indian Tribe of the Uintah & Ouray Reservation, Utah; Ute Mountain Ute Tribe (previously listed as Ute Mountain Tribe of the Ute Mountain Reservation, Colorado, New Mexico & Utah); and the Zuni Tribe of the Zuni Reservation, New Mexico (hereafter referred to as “The Consulted Tribes”).

History and Description of the Remains

In 1983, human remains representing, at minimum, nine individuals were removed from the Five Finger Ridge Site (42SV1686) and the Icicle Bench Site (42SV1372) in Sevier County, UT. The remains of eight individuals were removed from the Five Finger Ridge Site and the remains of one individual were removed from the Icicle Bench Site by the Office of Public Archaeology (OPA) of Brigham Young University as part of the Interstate-70 construction project. Based on the excavated artifacts and architectural structures, both sites belong to the prehistoric Formative (Anasazi/Fremont) Period (from approximately 400 B.C.E. to 1300 C.E.).

OPA returned the human remains to the Fremont Indian State Park and Museum in 1987. From December 2018 to December 2020, a physical anthropology/forensics analyst from the Utah State Historic Preservation Office conducted a detailed examination of the fragmentary human remains, during which over 1,000 individual bone fragments were identified. Only by plotting the findspots of the human remains and through forensic reconstruction could the number of individuals be determined. No known individuals were identified. No associated funerary objects are present.

Determinations Made by the Fremont Indian State Park and Museum

Officials of the Fremont Indian State Park and Museum have determined that:

• Pursuant to 25 U.S.C. 3001(9), the human remains described in this notice are Native American, based on the culture represented by the excavated artifacts and architectural structures.

• Pursuant to 25 U.S.C. 3001(9), the human remains described in this notice represent the physical remains of nine individuals of Native American ancestry.

• Pursuant to 25 U.S.C. 3001(2), a relationship of shared group identity cannot be reasonably traced between the Native American human remains and any present-day Indian Tribe.

• According to final judgments of the Indian Claims Commission or the Court of Federal Claims, the land from which the Native American human remains were removed is the aboriginal land of the Ute Indian Tribe of the Uintah & Ouray Reservation, Utah.

• Treaties, Acts of Congress, or Executive Orders indicate that the land from which the Native American human remains were removed is the aboriginal land of the Ute Indian Tribe of the Uintah & Ouray Reservation, Utah.

• Pursuant to 43 CFR 10.11(c)(1), the disposition of the human remains may be to the Ute Indian Tribe of the Uintah & Ouray Reservation, Utah.

Additional Requestors and Disposition

Representatives of any Indian Tribe or Native Hawaiian organization not identified in this notice that wish to request transfer of control of these human remains should submit a written request with information in support of the request to Kevin Taylor, Manager, Fremont Indian State Park and Museum, 3820 W Clear Creek Canyon Road, Sevier, UT 84766-6058, telephone (435) 527-4631, email kevintaylor@utah.gov, by August 18, 2021. After that date, if no additional requestors have come forward, transfer of control of the human remains to the Ute Indian Tribe of the Uintah & Ouray Reservation, Utah may proceed.

The Fremont Indian State Park and Museum is responsible for notifying The Consulted Tribes that this notice has been published.

Dated: July 7, 2021.
Melanie O'Brien,
Manager, National NAGPRA Program.

[FR Doc. 2021-15255 Filed 7-16-21; 8:45 am]

BILLING CODE 4312-52-P